ENVIRONMENTAL PROTECTION AGENCY

[CERCLA-04-2018-3762; FRL-9989-20—Region 4]

Koppers Co., Inc. (Charleston Plant) Superfund Site Charleston, South Carolina; Notice of Settlement

AGENCY: Environmental Protection Agency (EPA).

ACTION: Notice of settlement.

SUMMARY: Under 122(h) of the Comprehensive Environmental Response, Compensation and Liability Act (CERCLA), the United States Environmental Protection Agency (EPA) has entered into a settlement agreement with HR Charleston VII, LLC (Prospective Purchaser) to perform work at the Koppers Co., Inc. Superfund Site located in Charleston, South Carolina. The work being performed will Support future residential land use.

DATES: The Agency will consider public comments on the settlement until March 13, 2019. The Agency will consider all comments received and may modify or withdraw its consent to the proposed settlement if comments received disclose facts or considerations which indicate that the proposed settlement is inappropriate, improper, or inadequate.

ADDRESSES: Copies of the settlement are available from the Agency by contacting Ms. Paula V. Painter, Program Analyst, using the contact information provided in this notice. Comments may also be submitted by referencing the Site's name through one of the following methods:

Internet: https://www.epa.gov/aboutepa/about-epa-region-4-southeast#r4-public-notices.

• U.S. Mail: U.S. Environmental Protection Agency, Superfund Division, Attn: Paula V. Painter, 61 Forsyth Street SW, Atlanta, Georgia 30303.

• Email: Painter.Paula@epa.gov.

FOR FURTHER INFORMATION CONTACT: Paula V. Painter at 404/562-8887.

Dated: December 10, 2018.
Maurice L. Horsey, IV,
Chief, Enforcement and Community Engagement Branch, Superfund Division.

[FR Doc. 2019-01916 Filed 2-8-19; 8:45 am]

BILLING CODE 6560-50-P